DEPARTMENT OF ENERGY

Federal Energy Regulatory Commission

[Project No. 2629-014]

Village of Morrisville, Vermont; Notice of Conference Call

a. Date and Time of Meeting: August 25, 2021 at 10:00 a.m. Eastern Time.

b. FERC Contact: Steve Kartalia at stephen.kartalia@ferc.gov or (202) 502-6131.

c. Purpose of Meeting: On May 24, 2021, in a filing labeled privileged, the Village of Morrisville (Morrisville) requested a meeting with Commission staff to receive guidance on its pending application to relicense the Morrisville Hydroelectric Project No. 2629, including potential amendments to the license application or the current license. The conference call will provide Morrisville with the opportunity to discuss potential amendments with Commission staff.

d. Proposed Agenda: (1) Introduction of participants; (2) Commission staff explains purpose of the meeting; (3) Morrisville discusses its potential amendments and seeks guidance from Commission staff; (4) Meeting participants discuss questions and topics raised by Morrisville; and (5) Commission staff concludes the meeting.

e. A summary of the meeting will be prepared and filed in the Commission's public file for the project.

f. All local, state, and federal agencies, Indian tribes, and other interested parties are invited to participate by phone. If interested, please contact Steve Kartalia at stephen.kartalia@ferc.gov or (202) 502-6131, by August 23, 2021, to receive a link and invitation to the conference call.

Dated: July 8, 2021.
Kimberly D. Bose,
Secretary.

[FR Doc. 2021-14944 Filed 7-13-21; 8:45 am]

BILLING CODE 6717-01-P